DEPARTMENT OF COMMERCE

International Trade Administration

Proposed Information Collection; Comment Request; Surveys for User Satisfaction, Impact and Needs

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 30, 2018.

ADDRESSES: Direct all written comments to Jennifer Jessup, Departmental Paperwork Clearance Officer, Department of Commerce, Room 6616, 14th and Constitution Avenue NW, Washington, DC 20230 (or via the internet at PRAcomment@doc.gov).

FOR FURTHER INFORMATION CONTACT: Requests for additional information or copies of the information collection instrument and instructions should be directed to Joe Carter—Office of Strategic Planning, 1999 Broadway—Suite 2205, Denver, CO 80220, (303) 844-5656, joe.carter@trade.gov.

SUPPLEMENTARY INFORMATION:

I. Abstract

The International Trade Administration provides a multitude of international trade related programs to help U.S. businesses. These programs include information products, services, and trade events. To accomplish its mission effectively, ITA needs ongoing feedback on its programs. This information collection item allows ITA to solicit clients' opinions about the use of ITA products, services, and trade events. To promote optimal use and provide focused and effective improvements to ITA programs, we are requesting approval for this clearance package; including: Use of Comment Cards (i.e., transactional-based surveys) to collect feedback immediately after ITA assistance is provided to clients; use of annual surveys (i.e., relationship-based surveys) to gauge overall satisfaction, impact and needs for clients with ITA assistance provided over a period time; use of multiple data collection methods (i.e., web-enabled surveys sent via email, telephone interviews, automated telephone surveys, and in-person surveys via mobile devices/laptops/tablets at trade events/shows) to enable clients to conveniently respond to requests for feedback; and a forecast of burden hours. Without this information, ITA is unable to systematically determine the actual and relative levels of performance for its programs and products/services and to provide clear, actionable insights for managerial intervention. This information will be used for program evaluation and improvement, strategic planning, allocation of resources and stakeholder reporting.

II. Method of Collection

The International Trade Administration is seeking approval for the following data collection methods to provide flexibility in conducting customer satisfaction surveys and to reduce the burden on respondents: (1) An email message delivering a hot link to a web enabled survey with an email reminder sent if the client does not respond to the survey within two weeks; (2) a telephone survey/interview; and (3) a web-enabled survey conducted in-person at trade shows/events via a laptop, tablet or mobile phone so participants can immediately respond without having to provide their email address.

III. Data

OMB Control Number: 0625-0275.

Form Number(s): ITA-XXXX.

Type of Review: Regular.

Affected Public: Business or other for-profit organizations; Not-for-profit institutions; State, Local, or Tribal government; and Federal government.

Estimated Number of Respondents: 50,000.

Estimated Time per Response: 5-30 minutes.

Estimated Total Annual Burden Hours: 25,000 hours.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-04036 Filed 2-27-18; 8:45 am]

BILLING CODE 3510-FP-P